DEPARTMENT OF DEFENSE

GENERAL SERVICES ADMINISTRATION

NATIONAL AERONAUTICS AND SPACE ADMINISTRATION

48 CFR Parts 1, 3, 4, 5, 7, 13, 26, 33, 49, 50, 52, and 53

[FAC 2005-13; Item VIII; Docket FAR-2006-0021; Sequence 4]

Federal Acquisition Regulation; Technical Amendments

AGENCIES: Department of Defense (DoD), General Services Administration (GSA), and National Aeronautics and Space Administration (NASA).

ACTION: Final rule.

SUMMARY: This document makes amendments to the Federal Acquisition Regulation (FAR) in order to make editorial changes.

DATES: Effective Date: September 28, 2006.

FOR FURTHER INFORMATION CONTACT: The FAR Secretariat, Room 4035, GS Building, Washington, DC, 20405, (202) 501-4755, for information pertaining to status or publication schedules. Please cite FAC 2005-13, Technical Amendments.

List of Subjects in 48 CFR Parts 1, 3, 4, 5, 7, 13, 26, 33, 49, 50, 52, and 53

Government procurement.

Dated: September 19, 2006
Ralph De Stefano,
Director, Contract Policy Division.

Therefore, DoD, GSA, and NASA amend 48 CFR parts 1, 3, 4, 5, 7, 13, 26, 33, 49, 50, 52, and 53 as set forth below:

1. The authority citation for 48 CFR parts 1, 3, 4, 5, 7, 13, 26, 33, 49, 50, 52, and 53 continues to read as follows:

Authority: 40 U.S.C. 121(c); 10 U.S.C. chapter 137; and 42 U.S.C. 2473(c).

PART 1—FEDERAL ACQUISITION REGULATIONS SYSTEM

1.602-3 [Amended]

2. Amend section 1.602-3 by removing from paragraphs (b)(4) and (d) “General Accounting Office” and adding “Government Accountability Office” in its place.

PART 3—IMPROPER BUSINESS PRACTICES AND PERSONAL CONFLICTS OF INTEREST

3.502-2 [Amended]

3. Amend section 3.502-2 by removing from paragraph (h) “General Accounting Office” and adding “Government Accountability Office” in its place.

PART 4—ADMINISTRATIVE MATTERS

4.602 [Amended]

4. Amend section 4.602 by removing from paragraph (a)(1) “General Accounting Office” and adding “Government Accountability Office” in its place.

PART 5—PUBLICIZING CONTRACT ACTIONS

5.503 [Amended]

5. Amend section 5.503 by removing from paragraph (c) “General Accounting Office” and adding “Government Accountability Office” in its place.

PART 7—ACQUISITION PLANNING

7.503 [Amended]

6. Amend section 7.503 by removing from paragraph (c)(20) “General Accounting Office” and adding “Government Accountability Office” in its place.

PART 13—SIMPLIFIED ACQUISITION PROCEDURES

13.305-1 [Amended]

7. Amend section 13.305-1 by removing “General Accounting Office” and adding “GAO” in its place.

PART 26—OTHER SOCIOECONOMIC PROGRAMS

26.202 [Amended]

8. Amend section 26.202 by removing from paragraph (b) “(See 6.603).” and adding “(See 6.603.)” in its place.

26.203 [Amended]

9. Amend section 26.203 by removing from paragraph (c) “insert” and adding “insert the” in its place.

PART 33—PROTESTS, DISPUTES, AND APPEALS

33.102 [Amended]

10. Amend section 33.102 by removing from paragraphs (a) and (b)(1) “General Accounting Office” and adding “Government Accountability Office” in its place.

PART 49—TERMINATION OF CONTRACTS

49.603-3 [Amended]

11. Amend section 49.603-3 by removing from paragraph (b)(7)(x) “General Accounting Office” and adding “Government Accountability Office” in its place.

PART 50—EXTRAORDINARY CONTRACTUAL ACTIONS

50.203 [Amended]

12. Amend section 50.203 by removing from paragraph (e)(1)(iii) “General Accounting Office” and adding “Government Accountability Office” in its place.

50.303-1 [Amended]

13. Amend section 50.303-1 by removing from paragraph (d)(4) “General Accounting Office” and adding “Government Accountability Office” in its place.

PART 52—SOLICITATION PROVISIONS AND CONTRACT CLAUSES

52.212-1 [Amended]

14. Amend section 52.212-1 by revising the date of the clause to read “(SEP 2006)”; and by removing from paragraph (b)(8) “52.212-3(j)” and adding “52.212-3(k)” in its place.

52.233-2 [Amended]

15. Amend section 52.233-2 by revising the date of clause to read “(SEP 2006)”; and by removing from paragraph (a) “General Accounting Office” and adding “Government Accountability Office” in its place.

PART 53—FORMS

53.109 [Amended]

16. Amend section 53.109 by removing “General Accounting Office” and adding “Government Accountability Office” in its place.

[FR Doc. 06-8218 Filed 9-27-06; 8:45 am]

BILLING CODE 6820-EP-S